DEPARTMENT OF ENERGY

Federal Energy Regulatory Commission

[Docket No. CP16-4-000]

Tennessee Gas Pipeline Company, L.L.C.; Notice of Schedule for Environmental Review of the Orion Project

On October 9, 2015, Tennessee Gas Pipeline Company, L.L.C. (Tennessee) filed an application in Docket No. CP16-4-000 requesting a Certificate of Public Convenience and Necessity pursuant to section 7(c) of the Natural Gas Act to construct and operate certain natural gas pipeline facilities. The proposed project is known as the Orion Project (Project), and would deliver an additional 135,000 dekatherms per day of natural gas to meet needs of three contracted shippers in the northeast United States.

On October 26, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—August 23, 2016.

90-day Federal Authorization Decision Deadline—November 21, 2016.

If a schedule change becomes necessary, additional notice will be provided so that the relevant agencies are kept informed of the Project's progress.

Project Description

Tennessee proposes to construct and operate pipeline facilities, modify existing aboveground facilities, and add new tie-in facilities in Wayne and Pike Counties, Pennsylvania.

The Project would consist of the following facilities:

• Approximately 12.9 miles of new 36-inch-diameter looping ¹ pipeline in Wayne and Pike Counties, Pennsylvania;

¹ A pipeline loop is a segment of pipe constructed parallel to an existing pipeline to increase capacity.

• a new internal pipeline inspection (“pig”) ² launcher, crossover, and connecting facilities at the beginning of the proposed pipeline loop in Wayne County;

² A “pig” is a tool that the pipeline company inserts into and pushes through the pipeline for cleaning the pipeline, conducting internal inspections, or other purposes.

• a new pig receiver, crossover, and connecting facilities at the end of the proposed pipeline loop in Pike County; and

• modifications at Tennessee's existing Compressor Station 323, including rewheeling/restaging of an existing compressor and other piping and appurtenant modifications.

Background

On November 23, 2015, the Commission issued a Notice of Intent to Prepare an Environmental Assessment for the Proposed Orion Project and Request for Comments on Environmental Issues (NOI). On December 3, 2015, the Commission issued a supplemental NOI extending the scoping period for the Project. The NOI and supplemental NOI were sent to affected landowners; federal, state, and local government agencies; elected officials; environmental and public interest groups; Native American tribes; other interested parties; and local libraries and newspapers. In response to the NOIs, the Commission received comments from the National Park Service and several individuals. The comments primarily concerned impacts on water resources, land use, recreation, air quality, and reliability and safety.

The U.S. Army Corps of Engineers is a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-4), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: June 30, 2016.
Kimberly D. Bose,
Secretary.

[FR Doc. 2016-16168 Filed 7-7-16; 8:45 am]

BILLING CODE 6717-01-P